ENVIRONMENTAL PROTECTION AGENCY

[ER-FRL-6683-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060235, ERP No. D-CGD-B03015-MA, Neputune Liquefied Natural Gas (LNG), Construction and Operation, Deepwater Port License Application, (Docket Number USCG-2004-22611) Massachusetts Bay, Gloucester and Boston, MA.

Summary: EPA expressed environmental concerns about impacts to air and water quality and to marine organisms, and offered suggestions regarding measures to avoid, minimize and mitigate for unavoidable impacts. Rating EC2.

EIS No. 20060342, ERP No. D-FHW-L65520-WA, WA-520 Bridge Replacement and HOV Project, Replace WA-520 Portage Bay and Evergreen Point Bridges and Improve Roadway between I-5 in Seattle and Bellevue Way or 108th Avenue Northeast on the Eastside, U.S. Coast Guard Permit and U.S. Army COE Section 10 and 404 Permits, King County, WA.

Summary: EPA expressed environmental concerns about impacts to endangered species, and aquatic resources, and indirect and cumulative impacts. Rating EC2.

EIS No. 20060392, ERP No. D-FRC-K03029-00, North Baja Pipeline Expansion Project, Docket Nos. CP06-61-000 and CP01-23-000, Construction and Operation of a Natural Gas Pipeline System, Land Use Plan Amendment, Right-of-Way Grant, Temporary Use Permits and U.S. Army COE Section 10 and 404 Permits, La Paz County, AZ and Riverside and Imperial Counties, CA.

Summary: EPA expressed environmental concerns about indirect impacts on air quality and water quality, and recommended that the FEIS discuss appropriate mitigation measures.Rating EC2.

EIS No. 20060452, ERP No. D-AFS-L65527-WA, Natapoc Ridge Restoration Project, To Improve Forest Health and Sustainability, and Reduce Wildfire and Hazardous Fuels, Wenatchee River Ranger District, Okanogan—Wenatchee National Forest, Chelan County, WA.

Summary: EPA requested further clarification of several points, but expressed lack of objections with the preferred alternative. Rating LO.

EIS No. 20060493, ERP No. D-IBR-K36146-CA, Folsom Dam Safety and Flood Damage Reduction Project, Addressing Hydrologic, Seismic, Static, and Flood Management Issues, Sacramento, El Dorado and Placer Counties, CA.

Summary: EPA expressed environmental concerns about potential adverse effects on air quality and recommended implementation of mitigation measures to reduce impacts. EPA requested the General Conformity Determination be included in the FEIS and requested notification and receipt of future project-level environmental documentation. Rating EC2.

EIS No. 20060500, ERP No. D-AFS-K65322-CA, Little Doe and Low Gulch Timber Sale Project, Proposes to Harvest Commercial Timber, Six Rivers National Forest, Mad River Ranger District, Trinity County, CA.

Summary: EPA expressed environmental concerns about impacts to wildlife habitat, including habitat for the federally threatened northern spotted owl, and the potential for the proposed action to spread noxious weeds into the project area. Rating EC1.

EIS No. 20060505, ERP No. D-NOA-E86004-00, South Atlantic Snapper Grouper Fishery , Amendment 14 to Establish Eight Marine Protected Areas in Federal Waters, Implementation, South Atlantic Region.

Summary: EPA supports Amendment 14 and the concept of MPAs as protected fish havens to restore given species and their habitat. Rating LO.

EIS No. 20060460, ERP No. DB-FHW-B40029-VT, Southern Connector/Champlain Parkway Project (MEGC-M5000(1)), Updated Information, Construction from Interchange of I-189 to Shelburne Street (US Route &) and Extending westerly and northerly to the City of Center District within the City of Burlington, Chittenden County, VT.

Summary: EPA does not object to the proposed project. Rating LO.

EIS No. 20060508, ERP No. DS-STB-G53010-TX, Southwest Gulf Railroad Project, Additional Information to Proposed Rail Line Construction and Operation Exemption, To Transport Limestone from Vulcan Construction Materials (VCM) Quarry to Del Rio Subdivision, Medina County, TX.

Summary: EPA does not object to the proposed project. Rating LO.

Final EISs

EIS No. 20040226, ERP No. F-FHW-B40092-NH, I-93, Highway Improvements, Salem to Manchester, Funding, NPDES and U.S. Army COE Section 404, Permits Issuance, Hillsborough and Rockingham, Counties, NH.

Summary: EPA continues to have environmental concerns about impacts to wetlands, water quality, and air quality as well as indirect and cumulative impacts.

EIS No. 20060441, ERP No. F-CGD-B03013-MA, Northeast Gateway Deepwater Port License, Application to Import Liquefied Natural Gas (LNG),(USCG-2005-22219), Massachusetts Bay, City of Gloucester, MA.

Summary: EPA does not object to the proposed project, but offered comments that can be addressed in the Record of Decision and the remainder of the licensing process.

EIS No. 20060503, ERP No. F-FHW-E40801-00, Interstate 69 Section of Independent Utility #9, Construction from the Interstate 55/MS State Route 304 Interchange in Hernando, MS to the Intersection of U.S. 51 and State Route 385 in Millington, TN, Desoto and Marshall Counties, MS and Shelby and Fayette Counties, TN.

Summary: EPA expressed environmental concerns about the proposed project related to impacts to wetlands, streams and flood plains as well as potential land use changes resulting in loss of habitat.

EIS No. 20060506, ERP No. F-COE-E11058-SC, Charleston Naval Complex (CNC), Proposed Construction of a Marine Container Terminal, Cooper River in Charleston Harbor, City of North Charleston, Charleston County, SC.

Summary: EPA expressed environmental concerns about the magnitude and long-term nature of the impacts associated with the proposal, including impacts to 65 acres of estuarine/tidal wetlands and open water habitat. EPA also expressed concerns over the estimated emissions from container ships and other mobile emissions sources.

EIS No. 20060517, ERP No. F-UAF-K11115-HI, Hickam, Air Force Base and Bellows Air Force Station, 15th Airlift Wing, Housing Privatization Phase II, To Transfer the Remaining Housing Units, and Associated Infrastructure to Selected Offeror, O'ahu, HI.

Summary: EPA's previous concerns were resolved; therefore, EPA does not object to the proposed action.

EIS No. 20060525, ERP No. F-COE-F67004-MN, East Reserve Project, Construct and Operate an Open Pit Taconite Mine between the Towns of Biwabik and McKinley, St. Louis County, MN.

Summary: EPA continues to have environmental concerns about this project that should be addressed in the Record of Decision and Section 404 permit.

EIS No. 20060530, ERP No. F-USA-D11039-MD, U.S. Army Medical Research Institute of Infectious Diseases (USAMRIID), Construction and Operation of New USAMRIID Facilities and Decommissioning and Demolition and/or Re-use of Existing USAMRIID Facilities, Fort Detrick, MD.

Summary: EPA does not object to the proposed project.

EIS No. 20060532, ERP No. F-BIA-L03012-AK, Cordova Oil Spill Response Facility, Construct an Oil Spill Response Facility at Shepard Point,NPDES Permit and U.S. Army COE Section 10 and 404 Permits, Cordova, AK.

Summary: EPA expressed continued concerns about impacts to aquatic resources. EPA believes that the EIS does not contain sufficient information to support the Preferred Alternative as the least environmentally damaging practicable alternative for purposes of complying with Clean Water Act 404(b)(1) Guidelines.

EIS No. 20060536, ERP No. F-FTA-G40190-TX, North Corridor Fixed Guideway Project, Propose Transit Improvements from University of Houston(UH)—Downtown Station to Northline Mall, Harris County, TX.

Summary: EPA does not object to the proposed project.

Dated: February 6, 2007.
Robert W. Hargrove,
Director, NEPA Compliance Division, Office of Federal Activities.

[FR Doc. E7-2181 Filed 2-8-07; 8:45 am]

BILLING CODE 6560-50-P